DEPARTMENT OF COMMERCE

International Trade Administration

[Application No. 10-00001]

Export Trade Certificate of Review

ACTION: Notice of Issuance of an Export Trade Certificate of Review to Alaska Longline Cod Commission (Application No. 10-00001).

SUMMARY: On May 13, 2010, the U.S. Department of Commerce issued an Export Trade Certificate of Review to the Alaska Longline Cod Commission (“ALCC”). This notice summarizes the conduct for which certification has been granted.

FOR FURTHER INFORMATION CONTACT: Joseph E. Flynn, Director, Office of Competition and Economic Analysis, International Trade Administration, by telephone at (202) 482-5131 (this is not a toll-free number), or by E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (2009).

The Office of Competition and Economic Analysis is issuing this notice pursuant to 15 CFR section 325.6(b), which requires the Secretary of Commerce to publish a summary of the certification in the Federal Register. Under Section 305(a) of the Act and 15 CFR section 325.11(a), any person aggrieved by the Secretary's determination may, within 30 days of the date of this notice, bring an action in any appropriate district court of the United States to set aside the determination on the ground that the determination is erroneous.

Description of Certified Conduct

ALCC is certified to engage in the Export Trade Activities and Methods of Operation described below in the following Export Trade and Export Markets:

Export Trade

Export Product

ALCC intends to export frozen at-sea, headed and gutted, Alaska cod (Gadus macrocephalus), also known as Pacific cod. Headed and gutted means the head and viscera are removed prior to freezing. Frozen-at-sea means that the Export Product is frozen on the catcher-processor vessel while at-sea immediately after being headed and gutted.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

To engage in Export Trade in the Export Markets, ALCC and its Members may undertake the following activities:

1. Each Member will from time to time independently determine in its sole discretion (i) the quantity of Export Product that it makes available for sale in export markets, and (ii) whether any portion of such quantity will be sold independently by it, be sold in cooperation with some or all of the other Members, or be made available to ALCC for sale in export markets. ALCC may not require any Member to export any minimum quantity of Export Product.

2. ALCC and/or its Members may enter into agreements to act in certain countries or markets as the Members' exclusive or non-exclusive Export Intermediary(ies) for the quantity of Export Product dedicated by each Member for sale by ALCC or any Member(s) in that country or market. In any such agreement (i) ALCC or the Member(s) acting as the exclusive Export Intermediary may agree not to represent any other supplier of Export Product with respect to one or more export market(s), and (ii) Members may agree that they will export the quantity of Export Product dedicated for sale in such export markets only through ALCC or the Member(s) acting as an exclusive Export Intermediary, and that they will not export Export Product otherwise, either directly or through any other Export Intermediary.

3. ALCC and/or one or more of its Members may engage in joint bidding or selling arrangements for export markets and allocate sales resulting from such arrangements among the Members.

4. The Members may refuse to deal with Export Intermediaries other than ALCC and its Members.

5. ALCC may, for itself and on behalf of its Members, by agreement with its Members or its Members' distributors or agents, or on the basis of its own determination:

a. Establish the prices at which Export Product will be sold in Export Markets;

b. Establish standard terms of sale of Export Product;

c. Establish standard quality grades for Export Product;

d. Establish target prices for sales of Export Product by its Members in Export Markets, with each Member remaining free to deviate from such target prices in its sole discretion;

e. Subject to the limitations set forth in paragraph 1, above, establish the quantity of Export Product to be sold in Export Markets;

f. Allocate among the Members Export Markets or customers in the Export Markets;

g. Refuse to quote prices for, or to market or sell, Export Product in Export Markets; and

h. Engage in joint promotional activities aimed at developing existing or new Export Markets, such as advertising and trade shows.

6. ALCC may, for itself and on behalf of its Members, contact non-member suppliers of Export Product to elicit information relating to price, volume delivery schedules, terms of sale, and other matters relating to such suppliers' sales or prospective sales in export markets.

7. Subject to the limitations set forth in paragraph 1, above, ALCC and its Members may agree on the quantities of Export Product and the prices at which ALCC and its Members may sell Export Product in and for export markets, and may also agree on territorial and customer allocations in export markets among the Members.

8. ALCC and its Members may enter into exclusive and non-exclusive agreements appointing third parties as Export Intermediaries for the sale of Export Product in Export Markets. Such agreements may contain the price, quantity, territorial and customer restrictions for export markets contained in paragraph 5, above.

9. ALCC and its Members may solicit individual non-Member suppliers of Export Product to sell such Export Product to ALCC or Members for sale in Export Markets.

10. ALCC may compile for, collect from, and disseminate to its Members, and the Members may discuss among themselves, either in meetings conducted by ALCC or independently via telephone and other available and appropriate modes of communication, the information described in Item 14 below.

11. ALCC and its Members may prescribe conditions for withdrawal of Members from and admission of Members to ALCC.

12. ALCC may, for itself or on behalf of its Members, establish and implement a quality assurance program for Export Product, including without limitation establishing, staffing, and operating a laboratory to conduct quality testing, promulgating quality standards or grades, inspecting Export Product samples and publishing guidelines for and reports of the results of laboratory testing.

13. ALCC may conduct meetings of its Members to engage in the activities described in paragraphs 1 through 12, above.

14. ALCC and its Members may exchange and discuss the following types of export-related information:

a. Sales and marketing efforts, and activities and opportunities for sales of Export Product in Export Markets, including but not limited to selling strategies and pricing, projected demand for Export Product, standard or customary terms of sale in Export Markets, prices and availability of Export Product from competitors, and specifications for Export Product by customers in Export Markets;

b. Price, quality, quantity, source, and delivery dates of Export Product available from the Members for export including but not limited to export inventory levels and geographic availability;

c. Terms and conditions of contracts for sales to be considered and/or bid on by ALCC and its Members;

d. Joint bidding or selling arrangements and allocation of sales resulting from such arrangements among the Members, including each Member's share of the previous calendar year's total foreign sales;

e. Expenses specific to exporting to and within Export Markets, including without limitation transportation, trans- or intermodal shipments, cold storage, insurance, inland freight to port, port storage, commissions, export sales, documentation, financing, customs duties, and taxes;

f. U.S. and foreign legislation, regulations and policies affecting export sales; and

g. ALCC's and/or its Members' export operations, including without limitation, sales and distribution networks established by ALCC or its Members in Export Markets, and prior export sales by Members (including export price information).

Definition

“Export Intermediary” means a person who acts as a distributor, representative, sales or marketing agent, or broker, or who performs similar functions.

Members (Within the Meaning of Section 325.2(1) of the Regulations)

Alaskan Leader Fisheries, Inc., Lynden, Washington; Alaskan Leader Seafoods LLC, Lynden, Washington; Gulf Mist, Inc., Everett, Washington; Deep Sea Fisheries, Inc., Everett, Washington; Aleutian Spray Fisheries, Inc., Seattle, Washington; Pathfinder Fisheries LLC, Seattle, Washington; Liberator Fisheries, LLC, Seattle, Washington; Siberian Sea Fisheries, LLC, Seattle, Washington; Akulurak LLC, Seattle, Washington; Romanzoff Fishing Company, Seattle, Washington; Beauty Bay Washington, LLC, Seattle, Washington; Tatoosh Seafoods LLC, Seattle, Washington; Blue North Fisheries, Inc., Seattle, Washington; Blue North Trading Company, LLC, Seattle, Washington; Clipper Group, Ltd., Seattle, Washington; Clipper Seafoods, Ltd., Seattle, Washington (a wholly-owned subsidiary of Clipper Group, Ltd.); Bering Select Seafoods Company, Seattle, Washington (a wholly owned subsidiary of Clipper Group, Ltd.); Glacier Bay Fisheries LLC, Seattle, Washington (Glacier Bay Fisheries LLC is controlled by Glacier Fish Company LLC); Glacier Fish Company LLC, Seattle, Washington; and Shelfords' Boat, Ltd., Mill Creek, Washington.

A copy of the Certificate will be kept in the International Trade Administration's Freedom of Information Records Inspection Facility, Room 4100, U.S. Department of Commerce, 14th Street and Constitution Avenue, NW., Washington, DC 20230.

Dated: May 19, 2010.
Joseph E. Flynn,
Director, Office of Competition and Economic Analysis.

[FR Doc. 2010-12594 Filed 5-25-10; 8:45 am]

BILLING CODE 3510-DR-P